DEPARTMENT OF LABOR

Office of Workers' Compensation Programs

Advisory Board on Toxic Substances and Worker Health

ACTION: Extension of Deadline for Nominations to Serve on the Advisory Board on Toxic Substances and Worker Health (Advisory Board) for the Energy Employees Occupational Illness Compensation Program Act (EEOICPA) from May 6, 2022, to May 21, 2022.

SUMMARY: The Secretary of Labor (Secretary) invites interested parties to submit nominations for individuals to serve on the Advisory Board for the EEOICPA.

SUPPLEMENTARY INFORMATION: The Board is mandated by Section 3687 of EEOICPA. The Secretary established the Board under this authority and Executive Order 13699 (June 26, 2015) and in accordance with the provisions of the Federal Advisory Committee Act (FACA), as amended, 5 U.S.C. App. 2. The purpose of the Board is to advise the Secretary with respect to: (1) The Site Exposure Matrices of the Department of Labor (DOL); (2) medical guidance for claims examiners for claims with the EEOICPA program, with respect to the weighing of the medical evidence of claimants; (3) evidentiary requirements for claims under Part B of EEOICPA related to lung disease; (4) the work of industrial hygienists and staff physicians and consulting physicians of the DOL and reports of such hygienists and physicians to ensure quality, objectivity, and consistency; (5) the claims adjudication process generally, including review of procedure manual changes prior to incorporation into the manual and claims for medical benefits; and (6) such other matters as the Secretary considers appropriate. In addition, the Board, when necessary, coordinates exchanges of data and findings with the Department of Health and Human Services' Advisory Board on Radiation and Worker Health, which advises the Department of Health and Human Services' National Institute for Occupational Safety and Health on various aspects of causation in radiogenic cancer cases under Part B of the EEOICPA program.

Notice of solicitation for nominations to serve on the Advisory Board was also published on April 6, 2022. The deadline for submission of nominations was 30 days from the date of publication, or May 6, 2022. The Secretary now extends the deadline for nomination by an additional 15 days, to May 21, 2022.

ADDRESSES: People interested in being nominated for the Board are encouraged to review the Federal Register notice on nominations for membership and submit the requested information by May 21, 2022. Nominations may be submitted, including attachments, by any of the following methods:

• Electronically: Send to: EnergyAdvisoryBoard@dol.gov (specify in the email subject line, “Advisory Board on Toxic Substances and Worker Health Nomination”).

• Mail, express delivery, hand delivery, messenger, or courier service: Submit one copy of the documents listed above to the following address: U.S. Department of Labor, Office of Workers' Compensation Programs, Advisory Board on Toxic Substances and Worker Health, Room S-3522, 200 Constitution Ave. NW, Washington, DC 20210.

Follow-up communications with nominees may occur as necessary through the process.

DATES: Nominations for individuals to serve on the Board must be submitted (postmarked, if sending by mail; submitted electronically; or received, if hand delivered) by May 21, 2022.

FOR FURTHER INFORMATION CONTACT: You may contact Michael Chance, Designated Federal Officer (DFO), at chance.michael@dol.gov, or Carrie Rhoads, Alternate DFO, at rhoads.carrie@dol.gov, U.S. Department of Labor, 200 Constitution Avenue NW, Suite S-3524, Washington, DC 20210, telephone (202) 343-5580.

This is not a toll-free number.

Signed at Washington, DC, this 25th day of April, 2022.
Christopher Godfrey,
Director, Office of Workers' Compensation Programs.

[FR Doc. 2022-09288 Filed 4-28-22; 8:45 am]

BILLING CODE P